DEPARTMENT OF COMMERCE

Foreign-Trade Zones Board

[B-49-2024]

Foreign-Trade Zone (FTZ) 250; Withdrawal of Notification of Proposed Production Activity; Boss Laser LLC; (Laser Machines); Sanford, Florida

Notice is hereby given of the withdrawal of the notification of proposed production activity submitted by Boss Laser LLC for its facility in Sanford, Florida, within FTZ 250. The notification was docketed on September 17, 2024 (89 FR 77472, September 23, 2024). The withdrawal was requested by Boss Laser LLC on October 31, 2024.

Dated: November 1, 2024.
Elizabeth Whiteman,
Executive Secretary.

[FR Doc. 2024-25868 Filed 11-6-24; 8:45 am]

BILLING CODE 3510-DS-P